FEDERAL COMMUNICATIONS COMMISSION

47 CFR Part 73

[DA 02-786, MM Docket No. 00-124, RM-9893]

Digital Television Broadcast Service; Bryan, TX

AGENCY: Federal Communications Commission.

ACTION: Final rule.

SUMMARY: The Commission, at the request of KWTX/KBTX License Corporation, licensee of station KBTX-TX, Bryan, Texas, substitutes DTV channel 50 for DTV channel 59 at Bryan. See 66 FR Rcd 21193 (2001). DTV channel 50 can be allotted to Bryan in compliance with the principle community coverage requirements of Section 73.625(a) at reference coordinates 30-33-16 N. and 96-01-51 W. with a power of 1000, HAAT of 477 meters and with a DTV service population of thousand.

With is action, this proceeding is terminated.

DATES: Effective May 30, 2002.

FOR FURTHER INFORMATION CONTACT: Pam Blumenthal, Media Bureau, (202) 418-1600.

SUPPLEMENTARY INFORMATION: This is a synopsis of the Commission's Report and Order, MM Docket No. 00-124, adopted April 8, 2002, and released April 15, 2002. The full text of this document is available for public inspection and copying during regular business hours in the FCC Reference Information Center, Portals II, 445 12th Street, SW., Room CY-A257, Washington, DC. This document may also be purchased from the Commission's duplicating contractor, Qualex International, Portals II, 445 12th Street., SW, CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Texas, is amended by removing DTV channel 59 and adding DTV channel 50 at Bryan.

Federal Communications Commission.
Barbara A. Kreisman,
Chief, Video Division, Media Bureau.

[FR Doc. 02-9278 Filed 4-16-02; 8:45 am]

BILLING CODE 6712-01-P